DEPARTMENT OF HOMELAND SECURITY

Coast Guard

[USCG-2006-26416]

Voyage Data Recorder Study; Report to Congress

AGENCY: Coast Guard, DHS.

ACTION: Notice of availability.

SUMMARY: The Coast Guard announces the availability of a report to Congress on the use of voyage data recorders on ferries. This report details the findings of the Coast Guard's study on the costs and benefits of requiring voyage data recorders on ferries of over 100 gross regulatory tons and carrying more than 399 passengers between two points not more than 300 miles apart.

FOR FURTHER INFORMATION CONTACT: If you have questions about the technical aspects of the report, contact Ms. Dolores Pyne-Mercier, Office of Design and Engineering Standards, U.S. Coast Guard, telephone 202-382-1381 or e-mail Dolores.J.Pyne-Mercier@uscg.mil. If you have questions on viewing or submitting material to the docket, contact Ms. Renee V. Wright, Program Manager, Docket Operations, telephone 202-493-0402.

SUPPLEMENTARY INFORMATION: In section 420 of the Coast Guard and Maritime Transportation Act of 2006 (Pub. L. 109-241), the Secretary of the Department in which the Coast Guard is operating is directed to study the use of voyage data recorders (VDR) on ferries over 100 gross regulatory tons and carrying more than 399 passengers between two points not more than 300 miles apart. The Act specified that the report would include an appraisal of the standards for VDRs, the methods of approving VDRs, and the procedures for annual VDR performance testing. The Act also specified that the study would include consultation with VDR manufacturers and ferry operators. The Coast Guard conducted the study between December 2006 and March 2007 and delivered a report to Congress on October 17, 2007. A copy of the report has been added into the docket. You may access the public docket electronically by performing a search for docket number “USCG-2006-26416” at http://www.regulations.gov.

Dated: March 4, 2008.
J.G. Lantz,
U.S. Coast Guard, Director of Commercial Regulations and Standards.

[FR Doc. E8-6142 Filed 3-25-08; 8:45 am]

BILLING CODE 4910-15-P